DEPARTMENT OF JUSTICE

Federal Bureau of Investigation

Agency Information Collection Activities: Proposed New Collection, Comments Requested

ACTION: 30-day notice of information collection under review: CJIS Customer Satisfaction Survey.

The Department of Justice (DOJ), Federal Bureau of Investigation (FBI), Criminal Justice Information Services (CJIS) Division has submitted the following information collection request to the Office of Management and Budget (OMB) for review and clearance in accordance with review procedures of the Paperwork Reduction Act of 1995. The proposed information collection was previously published in the Federal Register on March 22, 2004, Volume 69, Number 55, on page 13334, allowing for a 60 day comment period.

The purpose of this notice is to allow for an additional 30 days for public comment until August 5, 2004. This process is conducted in accordance with 5 CFR 1320.10.

Written comments and/or suggestions regarding the items contained in this notice, especially estimated public burden and associated response time, should be directed to the Office of Management and Budget, Office of Information and Regulatory Affairs, Attention: Department of Justice Desk Officer, Washington, DC 20503. Additionally, comments may be submitted to OMB via facsimile to (202) 395-5806.

Written comments and suggestions from the public and affected agencies concerning the proposed collection of information are encouraged. Your comments should address one or more of the following four points:

—Evaluate whether the proposed collection of information is necessary for the proper performance of the functions of the agency/component, including whether the information will have practical utility;

—Evaluate the accuracy of the agencies/components estimate of the burden of the proposed collection of information, including the validity of the methodology and assumptions used;

—Enhance the quality, utility, and clarity of the information to be collected; and

—Minimize the burden of the collection of information on those who are to respond, including the use of appropriate automated, electronic, mechanical, or other technological collection techniques or other forms of information technology, e.g., permitting electronic submission of responses.

Overview of this information collection:

(1) Type of Information Collection: New collection.

(2) Title of the Form/Collection: CJIS Customer Satisfaction Surveys.

(3) Agency Form Number, if any, and the applicable component of the department sponsoring the collection: Form Number: None. Criminal Justice Information Services Division, Federal Bureau of Investigation, Department of Justice.

(4) Affected Public Who Will Be Asked or Required To Respond, As well As a Brief Abstract: Primary: State, local or tribal governments. Other: Federal government and business or other for-profit. Brief Abstract: The FBI established the CJIS Division to serve as the focal point and central repository for criminal justice information services within the FBI. The CJIS Division is responsible for the following programs administered by the FBI for the benefit of local, State, Federal, and foreign criminal justice agencies: (a) Integrated Automated Fingerprint Identification System, (b) Law Enforcement Online, (c) National Crime Information Center, (d) National Instant Criminal Background Check System—Federal Firearm Licensees, (e) National Instant Criminal Background Check System: Point of Contact and Partial Point of Contact States, (f) Uniform Crime Reporting, Interstate Identification, and Index, and (g) the CJIS Help Desk. CJIS will be conducting a customer service survey for each of the seven aforementioned programs as well as for the CJIS Help Desk. These surveys will be used to establish approval rating baselines of CJIS Division services in addition to identifying areas where our services can be improved, or new services established to assist the criminal justice community with the performance of their official duties.

(5) An Estimate of the Total Number of Respondents and the Amount of Time Estimated for an Average Respondent To Respond: The estimated total number of respondents are 2,485 which are broken into the following areas: (a) Integrated Automated Fingerprint Identification System, 400 respondents, and 9 minutes average completion time; (b) Law Enforcement Online, 400 respondents, and 2 minutes average completion time; (c) National Crime Information Center, 400 Respondents, and 2 minutes average completion time; (d) National Instant Criminal Background Check System—Federal Firearm Licensees, 400 respondents and 3 minutes average completion time; (e) National Instant Criminal Background Check System—Point of Contact and Partial Point of Contact, 24 respondents, and 2 minutes average completion time; (f) Uniform Crime Reporting, 400 respondents, and 7 minutes average completion time; (g) Interstate Identification Index, 400 respondents, and 3 minutes average completion time; and CJIS Help Desk, 61 respondents and 3 minutes average completion time.

(6) An Estimate of the Total Public Burden (in Hours) Associated With the Collection: There are an estimated 177 total public burden hours associated with this collection.

If additional information is required contact: Mrs Brenda E. Dyer, Deputy Clearance Officer, Policy and Planning Staff, Justice Management Division, United States Department of Justice, Patrick Henry Building, Suite 1600, 601 D Street, NW., Washington, DC 20530.

Dated: June 29, 2004.
Brenda E. Dyer,
Deputy Clearance Officer, United States Department of Justice.

[FR Doc. 04-15170 Filed 7-2-04; 8:45 am]

BILLING CODE 4410-02-P